DEPARTMENT OF LABOR

Employment and Training Administration

[TA-W-73,696]

Deloitte Financial Advisory Services LLP, Real Estate Consulting, Houston, TX; Amended Certification Regarding Eligibility To Apply for Worker Adjustment Assistance

In accordance with Section 223 of the Trade Act of 1974, as amended (“Act”), 19 U.S.C. 2273, the Department of Labor (“Department”) issued a Certification of Eligibility to Apply for Worker Adjustment Assistance on November 19, 2010, applicable to workers of Deloitte Financial Advisory Services LLP, Real Estate Consulting, Houston, Texas (subject firm). The Department's Notice was published in the Federal Register on December 6, 2010 (75 FR 75700). The subject worker group supplies real estate valuation services for the subject firm.

The Department, on its own motion, reviewed the administrative record. The record revealed that an earlier petition (dated May 27, 2009) submitted on behalf of the same worker group was not properly instituted until March 11, 2010.

The intent of the Department's certification is to include all workers employed at Deloitte Financial Advisory Services LLP, Real Estate Consulting, Houston, Texas who were adversely affected by a shift in services to India that were separated on or after May 27, 2008 through November 19, 2012.

The amended notice applicable to TA-W-73,696 is hereby issued as follows:

All workers of Deloitte Financial Advisory Services LLP, Real Estate Consulting, Houston, Texas, who became totally or partially separated from employment on or after May 27, 2008, through November 19, 2012, and all workers in the group threatened with total or partial separation from employment on date of certification through two years from the date of certification, are eligible to apply for adjustment assistance under Chapter 2 of Title II of the Trade Act of 1974, as amended.

Signed in Washington, DC, this 8th day of March 2011.
Del Min Amy Chen,
Certifying Officer, Office of Trade Adjustment Assistance.

[FR Doc. 2011-12778 Filed 5-24-11; 8:45 am]

BILLING CODE 4510-FN-P